DEPARTMENT OF THE INTERIOR

Bureau of Land Management

[BLM_OR_FRN_MO4500183398]

Notice of Availability of the Proposed Lakeview Resource Management Plan Amendment and Final Environmental Impact Statement for the Lakeview Field Office, Lakeview District, Oregon

AGENCY: Bureau of Land Management, Interior.

ACTION: Notice of availability.

SUMMARY: In conformance with the National Environmental Policy Act of 1969, as amended (NEPA), and the Federal Land Policy and Management Act of 1976, as amended (FLPMA), the Bureau of Land Management (BLM) has prepared the Proposed Lakeview Resource Management Plan (RMP) Amendment and Final Environmental Impact Statement (EIS) and is announcing the start of a 30-day protest period.

DATES: This notice announces a 30-day protest period on the Proposed Lakeview RMP Amendment, beginning on the date the Environmental Protection Agency (EPA) publishes its Notice of Availability (NOA) of the proposed RMP amendment/final EIS in the Federal Register. The EPA usually publishes its NOAs on Fridays. Protests must be postmarked or electronically submitted on the BLM's ePlanning website during the 30-day protest period.

ADDRESSES: The proposed RMP amendment/final EIS is available for review on the BLM ePlanning project website at https://eplanning.blm.gov/eplanning-ui/project/114300/510 and at the BLM Lakeview District, 1301 South G Street, Lakeview, OR 97630.

Instructions for filing a protest with the BLM can be found at: https://www.blm.gov/programs/planning-and-nepa/public-participation/filing-a-plan-protest and at 43 CFR 1610.5-2. Protests must be submitted to the ePlanning website listed above or as a hard copy to: BLM Director, Attention: Protest Coordinator (HQ210), PO Box 151029, Lakewood, CO 80215.

FOR FURTHER INFORMATION CONTACT: Mr. Michael Collins, Planning and Environmental Coordinator, telephone: 541-947-2177; 1301 South G Street, Lakeview, OR 97630; email: blm_or_lv_rmp_team@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This document provides notice that the BLM Oregon/Washington (OR/WA) State Director has prepared the Proposed Lakeview RMP Amendment and Final EIS that analyzes alternatives that would update the existing 2003 Lakeview RMP and Record of Decision (ROD), as amended by the 2015 Approved Oregon Greater Sage-grouse RMP Amendment and ROD.

The planning area is located in Lake and Harney counties, Oregon, and encompasses approximately 3.2 million acres of public land.

Purpose and Need for the Planning Effort

The purpose and need for this proposed RMP amendment/final EIS is to comply with the provisions of a 2010 Settlement Agreement, which required the BLM to prepare an RMP amendment that addresses a range of alternatives for managing lands with wilderness characteristics, off-highway vehicle (OHV) use, and livestock grazing within the planning area. The BLM has determined that 106 inventory units totaling 1,655,290 acres within the planning area contain wilderness characteristics.

Alternatives Including the Proposed Action

The proposed RMP amendment/final EIS analyzes six action alternatives and a No Action Alternative. The 90-day public comment period for the Draft Lakeview RMP Amendment and Draft EIS ended on September 5, 2024. The BLM held four public meetings during the public comment period. The BLM considered all input received from the public, consulting Tribes, and cooperating agencies, and incorporated such input into the proposed RMP amendment as appropriate. This input resulted in the clarification of text, minor changes to the range of alternatives, and the identification of the proposed RMP amendment (Alternative F), which is within the range of alternatives and effects analyzed in the draft RMP amendment/draft EIS.

The No Action Alternative represents the continuation of existing management direction under the 2003 Lakeview RMP/ROD, as amended, including the existing goals and management direction for OHV and livestock grazing use. In addition, the interim management provisions included in the 2010 Settlement Agreement would continue to preclude the BLM from completing any management actions within inventory units that the BLM has determined possess wilderness characteristics that could reduce the unit's size or diminish the unit's wilderness characteristics to such an extent that it would no longer meet the BLM's criteria for wilderness characteristics.

Alternative A would continue the BLM's management direction under the 2003 Lakeview RMP/ROD, as amended, including the existing goals and management direction for OHV and livestock grazing use. Management would emphasize resources and multiple uses other than wilderness characteristics. None of the 106 units that the BLM found to possess wilderness characteristics would receive additional protections.

Alternative B would emphasize the protection of wilderness characteristics within all 106 units; 34 units and portions of two units (approximately 273,680 acres) would be designated as Wilderness Study Areas (WSAs) under section 202 of FLPMA. These proposed WSAs would be managed as visual resource management (VRM) class I, land tenure zone 1 (retention in the public domain), exclusion zones for all rights-of-way, and would include restrictions on mineral development. The remaining 77 units and portions of two units (approximately 1,381,610 acres) would be managed as VRM class II, land tenure zone 1 (retention in the public domain), exclusion zones for major rights-of-way, and include some restrictions on mineral development. OHV use would be closed in all 106 units that the BLM has found to possess wilderness characteristics (approximately 1,654,103 acres) and in all WSAs. Cross-country motorized travel and motorized travel on existing internal primitive routes in these areas would be prohibited.

Under Alternative B, grazing allocations would not be changed. However, where existing livestock grazing is found to be a significant causal factor for non-attainment of rangeland health standards, the BLM would remove grazing, either at the allotment or pasture scale, for the duration of the plan amendment. Should the BLM receive a voluntary permit relinquishment for any lands with wilderness characteristics, WSAs, Areas of Critical Environmental Concern, Research Natural Areas, or designated critical habitat for federally listed species, the BLM would remove or reduce grazing in the area for the duration of the plan amendment.

Alternatives C, D, and E would establish new management goals and additional protective management for wilderness characteristics. The units emphasized for protection of wilderness characteristics would be managed as VRM class II, land tenure zone 1 (retention in the public domain), exclusion zones for major rights-of-way, and include restrictions on mineral development. The specific units emphasized for protection of wilderness characteristics would vary across these alternatives. In addition, a 100- to 300-foot setback would be applied along boundary roads of these units under Alternatives C, D, and E to provide the BLM with additional management flexibility to address other resources needs, threats, and multiple uses adjacent to these areas.

Alternative C would emphasize the protection of wilderness characteristics in 26 units and portions of four units (approximately 411,033 acres) that the BLM found to possess wilderness characteristics. The BLM would balance the management of wilderness characteristics with other resources and multiple uses in 71 units and portions of two units (approximately 1,161,199 acres). The remaining five units and portions of three units (approximately 74,529 acres) would be managed under the 2003 Lakeview RMP, as amended; the BLM would allow other multiple uses while not protecting wilderness characteristics. The OHV use throughout the entire planning area would be limited to existing routes, unless currently limited to designated routes or closed to OHV use. Grazing allocations would not be changed. However, the BLM would temporarily remove grazing, at either the allotment or pasture scale, when existing livestock grazing is found to be a significant causal factor for non-attainment of rangeland health standards, until such time as monitoring or a subsequent assessment indicates that the pasture or allotment is meeting standards or is making significant progress towards meeting standards. Should the BLM receive a voluntary permit relinquishment for public lands in a WSA, it would remove or reduce grazing in the area for the life of the plan amendment.

Alternative D would emphasize the protection of wilderness characteristics within two units (approximately 4,671 acres) that the BLM found to possess wilderness characteristics. OHV use in these two units would be limited to existing routes. Management of wilderness characteristics would be balanced with other resources and multiple uses in 41 units and portions of 18 units (approximately 1,075,323 acres). The remaining 46 units (approximately 583,332 acres) would be managed under the 2003 Lakeview RMP as amended; the BLM would allow other multiple uses while not protecting wilderness characteristics. The area open to cross-country OHV use would be reduced to approximately 70,573 acres of expressly defined areas; approximately 11,000 acres would be closed to OHV use; and the remainder of the planning area, approximately 3 million acres, would be limited to existing or designated routes. Livestock grazing management would be the same as the No Action Alternative unless a rangeland health assessment and evaluation indicates one or more standards are not met in an allotment or pasture due to factors that are subject to BLM control, then the authorized officer shall consider taking action to make progress toward rangeland health standards and land use plan objectives, even if livestock grazing is not determined to be a significant causal factor for non-attainment of standard(s). Actions available to the authorized officer could include, but are not limited to, changes in management of livestock grazing or other uses or habitat restoration.

Alternative E was developed with input from individual members of the Southeast Oregon Resource Advisory Council and would emphasize the protection of wilderness characteristics within 26 units (approximately 372,218 acres) that the BLM found to possess wilderness characteristics. Management of wilderness characteristics would be balanced with other resources and multiple uses in 68 units (approximately 1,109,160 acres). The remaining 12 units (approximately 168,512 acres) would be managed under the 2003 Lakeview RMP as amended; the BLM would allow other multiple uses while not protecting wilderness characteristics. OHV and livestock grazing management throughout the planning area would be the same as the No Action Alternative.

Alternative F, the proposed RMP amendment, was largely developed by combining components of Alternatives C and D from the draft RMP amendment/draft EIS, and to a lesser extent some components from Alternative B. Alternative F's OHV and livestock grazing management components are identical to Alternative D. Alternative F would designate 42,547 acres within 24 wilderness characteristics units and portions of two other units as WSAs under section 202 of the FLPMA. These proposed WSAs would be managed as VRM class I, land tenure zone 1 (retention in the public domain), exclusion zones for all rights-of-way, and would include restrictions on mineral development. Alternative F would also prioritize protections for wilderness characteristics over other multiple uses on 373,132 acres in an additional eight units and portions of seven other units. These units would be managed as VRM class II, land tenure zone 1 (retention in the public domain), exclusion zones for major rights-of-way, and include some restrictions on mineral development. The BLM would balance the management of wilderness characteristics with other resources and multiple uses on 738,665 acres located in 37 units and portions of 12 units. The BLM would manage the remaining 30 units and portions of nine units that total 495,332 acres in accordance with the 2003 Lakeview RMP, as amended, where other multiple uses are provided for without any wilderness characteristics protections.

The proposed RMP amendment/final EIS was developed based on the consideration of public comments, cooperating agency and Tribal government-to-government consultations, updates to the highest quality science and information, and by combining elements of the alternatives analyzed in the draft RMP amendment/draft EIS. The proposed RMP amendment is within the range of alternatives considered in the draft RMP amendment/draft EIS.

Alternative F emphasizes a high level of resource protection in portions of the planning area while providing for a sustainable level of multiple uses in other portions of the planning area. It balances the need to preserve or protect specific public lands in their natural condition with the need to provide food and habitat for fish, wildlife, and domestic animals and provide for outdoor recreation and human occupancy and use. It also recognizes the Nation's need for domestic sources of minerals, food, timber, and fiber from the public lands. This balance would be accomplished within the limits of the ecosystem's ability to provide these multiple uses on a sustainable basis and within the constraints of applicable laws, regulations, and policies, including sections 102(7), 102(8), 102(12), 103(c), and 103(h) of the FLPMA.

Protest of the Proposed RMP

The BLM planning regulations state that any person who participated in the preparation of the RMP amendment and has an interest that will or might be adversely affected by approval of the Proposed Lakeview RMP Amendment may protest its approval to the BLM Director. Protesting the proposed RMP amendment constitutes the final opportunity for administrative review of the proposed land use planning decisions prior to the BLM adopting an approved RMP amendment. Instructions for filing a protest regarding the proposed RMP amendment with the BLM Director may be found online at https://www.blm.gov/programs/planning-and-nepa/public-participation/filing-a-plan-protest and at 43 CFR 1610.5-2. All protests must be in writing and mailed to the appropriate address or submitted electronically through the BLM ePlanning project website (see ADDRESSES). Protests submitted by any other means will be invalid. The BLM Director will render a written decision on each protest. The Director's decision shall be the final decision of the Department of the Interior. Responses to valid protest issues will be compiled and documented in a Protest Resolution Report made available following the protest resolution online at: https://www.blm.gov/programs/planning-and-nepa/public-participation/protest-resolution-reports. Upon resolution of protests, the BLM will issue a ROD and Approved RMP.

(Authority: 40 CFR 1501.9, 40 CFR 1506.9, 43 CFR 1610.2, 43 CFR 1610.5)

Barry R. Bushue,
State Director.

[FR Doc. 2024-25942 Filed 11-7-24; 8:45 am]

BILLING CODE 4331-24-P